DEPARTMENT OF ENERGY

Federal Energy Regulatory Commission

Combined Notice of Filings

Take notice that the Commission has received the following Natural Gas Pipeline Rate and Refund Report filings:

Docket Numbers: RP11-2473-000.

Applicants: Gulf South Pipeline Company, LP.

Description: Report Filing: 2019 CICO Report Filing.

Filed Date: 9/1/20.

Accession Number: 20200901-5136.

Comments Due: 5 p.m. ET 9/14/20.

Docket Numbers: RP19-57-002.

Applicants: Algonquin Gas Transmission, LLC.

Description: Compliance filing RP19-57 AGT Settlement Compliance Filing to be effective 6/1/2020.

Filed Date: 9/1/20.

Accession Number: 20200901-5151.

Comments Due: 5 p.m. ET 9/14/20.

Docket Numbers: RP20-1154-000.

Applicants: Columbia Gulf Transmission, LLC.

Description: § 4(d) Rate Filing: Vitol Inc. Negotiated Rate Agreement to be effective 9/1/2020.

Filed Date: 9/1/20.

Accession Number: 20200901-5091.

Comments Due: 5 p.m. ET 9/14/20.

Docket Numbers: RP20-1155-000.

Applicants: Columbia Gas Transmission, LLC.

Description: § 4(d) Rate Filing: Sept 20 Negotiated Rate Agreements to be effective 9/1/2020.

Filed Date: 9/1/20.

Accession Number: 20200901-5092.

Comments Due: 5 p.m. ET 9/14/20.

Docket Numbers: RP20-1156-000.

Applicants: Equitrans, L.P.

Description: § 4(d) Rate Filing: Negotiated Rate Capacity Release Agreements—9/1/2020 to be effective 9/1/2020.

Filed Date: 9/1/20.

Accession Number: 20200901-5094.

Comments Due: 5 p.m. ET 9/14/20.

Docket Numbers: RP20-1157-000.

Applicants: Equitrans, L.P.

Description: § 4(d) Rate Filing: Expired Negotiated Rate Agreement— 9/1/2020 to be effective 10/1/2020.

Filed Date: 9/1/20.

Accession Number: 20200901-5097.

Comments Due: 5 p.m. ET 9/14/20.

Docket Numbers: RP20-1158-000.

Applicants: Great Lakes Gas Transmission Limited Parnership.

Description: § 4(d) Rate Filing: SEMCO Negotiated Rate Amendment to be effective 9/1/2020.

Filed Date: 9/1/20.

Accession Number: 20200901-5158.

Comments Due: 5 p.m. ET 9/14/20.

Docket Numbers: RP20-1159-000.

Applicants: Columbia Gas Transmission, LLC.

Description: Compliance filing BXP Rate Implementation to be effective 11/1/2020.

Filed Date: 9/1/20.

Accession Number: 20200901-5164.

Comments Due: 5 p.m. ET 9/14/20.

Docket Numbers: RP20-1160-000.

Applicants: Transcontinental Gas Pipe Line Company, LLC.

Description: § 4(d) Rate Filing: Initial Rate Filing—Southeastern Trail Project to be effective 11/1/2020.

Filed Date: 9/1/20.

Accession Number: 20200901-5252.

Comments Due: 5 p.m. ET 9/14/20.

Docket Numbers: RP20-1161-000.

Applicants: Midship Pipeline Company, LLC.

Description: § 4(d) Rate Filing: Periodic Retainage Adjustment Effective 10/1/2020 to be effective 10/1/2020.

Filed Date: 9/1/20.

Accession Number: 20200901-5268.

Comments Due: 5 p.m. ET 9/14/20.

Docket Numbers: RP20-614-004.

Applicants: Transcontinental Gas Pipe Line Company, LLC.

Description: Compliance filing Motion Filing—Cash-Out Price Calculation—Revised Section 18 to be effective 9/1/2020.

Filed Date: 9/1/20.

Accession Number: 20200901-5223.

Comments Due: 5 p.m. ET 9/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2020.
Nathaniel J. Davis, Sr.,
Deputy Secretary.

[FR Doc. 2020-19861 Filed 9-8-20; 8:45 am]

BILLING CODE 6717-01-P